Proclamation 10174 of April 2, 2021

Honoring United States Capitol Police Officers

By the President of the United States of America

A Proclamation

As a sign of respect for the service and sacrifice of the victims of the attack at the United States Capitol on Friday, April 2, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, April 6, 2021. I also direct that the flag shall be flown at half-staff for the same length of time at all United States embassies, legations, consular offices, and other facilities abroad, including all military facilities and naval vessels and stations.

IN WITNESS WHEREOF, I have hereunto set my hand this second day of April, in the year of our Lord two thousand twenty-one, and of the Independence of the United States of America the two hundred and forty-fifth.

[FR Doc. 2021-07293

Filed 4-6-21; 11:15 am]

Billing code 3295-F1-P